DEPARTMENT OF COMMERCE

Census Bureau

Proposed Information Collection; Comment Request; 2018 End-to-End Census Test—Peak Operations

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before May 30, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION CONTACT: Requests for additional information or copies of the information collection instrument(s) and instructions should be directed to Robin A. Pennington, Census Bureau, HQ-2K281N, Washington, DC 20233; (301) 763-8132 (or via email at robin.a.pennington@census.gov).

SUPPLEMENTARY INFORMATION:

I. Abstract

During the years preceding the 2020 Census, the Census Bureau will pursue its commitment to reduce the costs of conducting a decennial census while maintaining our commitment to quality. In 2018, the Census Bureau will be performing the 2018 End-to-End Census Test. This last major test before the 2020 Census is designed to (1) test and validate 2020 Census operations, procedures, systems, and field infrastructure to ensure proper integration and conformance with requirements, and (2) produce prototypes of geographic and data products.

The 2018 End-to-End Census Test will encompass operations and systems related to (1) Address Canvassing; (2) Optimizing Self-Response, including contact strategies, questionnaire content, and language support; (3) Update Enumerate, including technical and operational testing; (4) Nonresponse Followup, including technological and operational improvements; and (5) Group Quarters, including technological and operational testing. The operations other than Address Canvassing are referred to collectively as Peak Operations, because they are the enumeration data collection operations of the census. These operations are the focus of this package.

The Address Canvassing operation ((1) from the above), beginning in the summer of 2017, is the first operation in the 2018 End-to-End Census Test and was included in a separate Address Canvassing Operation package due to timing considerations.

New approaches to the design of the 2020 Census are classified into four key innovation areas. These areas have been the subject of Census Bureau testing this decade to identify methodological improvements, technological advances, and possibilities for cost savings over repeating the design of the 2010 Census. One of these innovation areas is Optimizing Self-Response, which is focused on improving methods for increasing the number of people who take advantage of self-response options.

Optimizing Self-Response

The 2018 End-to-End Census Test is designed to evaluate several strategies to optimize the rate at which the public self-responds to the census, which would reduce costs of the census by decreasing the workload for following up at nonresponding units. Previous Census Bureau tests have resulted in the design of contact strategies, two of which will be in use during this test for the purpose of gathering additional metrics and making comparisons on a number of indicators. Either or both of these strategies may be included in the design of the 2020 Census, depending on a variety of factors.

Internet First is the primary mail contact strategy proposed for the 2020 Census and has been used in Census Bureau research and testing efforts since 2012. (In prior tests, this strategy was called Internet Push.) This strategy includes the mailing of a letter inviting respondents to complete the questionnaire online, two follow-up reminders, and then if necessary, a mailed paper questionnaire.

Internet Choice includes a paper questionnaire in the first mailing, along with an invitation to complete the questionnaire online, providing a choice of Internet or paper response from the beginning of the contact strategy.

In addition, the 2018 End-to-End Census Test provides the Census Bureau with an opportunity to enhance the user experience, performance, and functionality of the Internet self-response instrument compared to prior Census Tests this decade. Improvements including expanded language capabilities will support the goal of optimizing self-response by providing an easy, quick, and safe experience for respondents, and ensure that the resulting response data and paradata provide required information to follow-up and data processing operations.

The Census Bureau plans to study the following in the 2018 End-to-End Census Test:

• Comparing the self-response rates between the Internet First and the Internet Choice panels.

• Comparing item-level response by panel and by mode, including in the Update Enumerate and Group Quarters enumeration operations, both of which will be fielded for the first time this decade.

• Measuring the effects of incorporating additional household contact strategies to encourage self-response, including letter and postcard reminders.

Nonresponse Followup

The 2018 End-to-End Census Test will allow the Census Bureau to continue to refine, optimize, and assess the operational procedures and technical design of the Nonresponse Followup (NRFU) operation. The NRFU operation is a field operation for determining housing unit status (occupied, vacant, or delete) and for gathering the enumeration data at addresses for which no self-response was received. This test will build upon the results of previous field tests this decade where the NRFU operation has been conducted. In particular, NRFU is now a fully-automated operation, whereas it was performed using paper materials in the 2010 Census. For this test, the Census Bureau will examine:

• Operational procedures.

○ Testing continued refinements to the field data collection instrument for enumeration, particularly where previous testing has shown potential problems in our question branching or issues with the interview software user interface. The Census Bureau will critically assess navigation within the instrument via debriefing sessions for field enumerators after operations complete.

○ Continuing refinement of our methods for enumerating multi-unit structures, particularly identifying vacant households in multi-units with a minimal number of contact attempts, thereby minimizing respondent burden.

○ Continuing refinement of procedures for interviewing proxy respondents to gather information from hard-to-enumerate households.

○ Continuing refinement of processes used to detect and deter falsification by field enumerators.

○ Continuing evaluation of enumerator training procedures and materials, including both online training modules and classroom training.

○ Integrating a Field Verification assignment into the NRFU workload. The Field Verification cases are intended to verify the existence and location of certain types of self-responses that were received without a preassigned census identification code, called a User ID.

○ Integrating into NRFU the ability to designate an area for an earlier NRFU operation in order to enumerate college and university students living in off-campus housing before the end of the spring semester.

• Technical design.

○ Continuing refinement of the management alerts to identify potentially problematic field behavior in real time.

○ Continuing refinement of the optimization and routing algorithms used to make daily NRFU field assignments.

○ Continuing work to integrate into the Census Bureau's enterprise data collection systems.

Update Enumerate (UE)

The Update Enumerate (UE) operation as planned for the 2020 Census is significantly changed from the UE operation that was used in the 2010 Census at about one percent of all addresses. At root, the UE methodology is designed for areas that require an enumeration methodology other than self-response followed by NRFU. The current design capitalizes on 2020 Census methodological improvements such as Internet Self-Response, automated field operations, and an approach to collect responses without a User ID that is greatly expanded in scale. The 2020 Census UE operation combines address listing methodologies with person enumeration methodologies. UE is conducted mostly in geographic areas that have one or more of the following characteristics:

• Do not have city-style addresses like 123 Main Street.

• Do not receive mail through city-style addresses.

• Receive mail at post office boxes rather than at their physical address.

• Have unique challenges associated with accessibility, such as dirt roads or seasonal access.

• Have recently been affected by natural disasters.

• Have high concentrations of seasonally vacant housing.

The following objectives are being tested for Update Enumerate:

• Integrating listing and enumeration operations and systems.

• Evaluating the impact on cost and quality of the UE contact strategy on enumerator productivity and efficiency.

• Testing refinements to the field data collection instrument for enumeration, especially for atypical situations, such as movers.

• Testing field supervisor to enumerator ratios.

Group Quarters (GQ):

The 2018 End-to-End Census Test will inform Census Bureau technological and operational planning and design for the enumeration of the population residing in Group Quarters (GQs). GQs are living quarters where people who are typically unrelated have group living arrangements and frequently are receiving some type of service. College dormitories and nursing homes are examples of GQs. To date, some small-scale testing has been done to test electronic transmission of GQ's enumeration responses. The 2018 End-to-End Census Test expands on these results to allow the opportunity to evaluate procedures and technologies for conducting GQ enumeration operations. The set of operations planned for GQ enumeration is GQ Advance Contact, Service-Based Enumeration, and, finally, GQ Enumeration. These operations have been used in previous censuses. The GQ Advance Contact is an operation where facility contact and planning data are collected, including the ability of the GQ facility to provide electronic records for the enumeration. Service-Based Enumeration has the objective of counting individuals who will not be enumerated at a living quarter but are receiving some type of service. The GQ Enumeration is the final stage of enumerating individuals residing at the GQ.

• Operational procedures.

○ Testing updated procedures for handling newly discovered GQs during field operations.

○ Continuing testing of the various GQ operations, process flows, estimated staffing levels, supporting processes, and workload estimates.

○ Continuing refinement of procedures for linking paper questionnaire response records collected by multiple enumerators during enumeration at a single GQ.

○ Continuing evaluation and refinement of the optimal enumerator to GQ ratios for multiple GQ types.

○ Testing multiple modes of enumeration.

• Technical design.

○ Testing the use of electronic methodologies to:

Create the initial universe for the GQ Advance Contact.

Conduct In-Office GQ Advance Contact.

Update the GQ frame prior to GQ enumeration.

Accept electronically transmitted response data in multiple formats.

○ Integrating GQ operations with listing and enumeration operations and systems.

Content

The Census Bureau recognizes that OMB is continuing to lead the discussion among federal agencies and other stakeholders on race/ethnicity from the perspective of data collection and dissemination guidance and standards, and that the final determination has not been made on the format of the race/ethnicity question for the 2020 Census. If it is determined that the combined race/ethnicity question format may be used for the 2020 Census (versus the separate race and Hispanic Origin questions used for the 2010 Census), it will be crucial for the Census Bureau to ensure that critical operations are fully prepared to go into production for the 2020 Census using the combined question. Therefore, the 2018 End-to-End Census Test data collection operations will utilize the combined race/ethnicity question version (that includes a Middle Eastern or North African category) to further its analysis and understanding of mode differences for the race/ethnicity responses before deploying the 2020 Census questionnaire.

• Internet Self-Response: Continue testing the combined race/ethnicity question under the further enhancements of the Internet Self-Response instrument for the 2018 End-to-End Census Test in regards to user experience, performance, and functionality; ensure that the resulting response data and paradata meet the requirements of follow-up and data processing operations; and test expanded language capabilities on the instrument, as the introduction of additional language options contributes to additional paths to analyze the paradata and response data.

• Nonresponse Followup: Continue testing the combined race/ethnicity question under the further enhancements of the field enumeration instrument; assess enumerators' experience with the field enumeration instrument and their navigation of the race/ethnicity question within the instrument. Input will be gathered during the post-operation field enumerator debriefing sessions.

• Update Enumerate and Group Quarters: Examine the 2018 End-to-End Census Test results by mode, including Update Enumerate and Group Quarters operations, which will be fielded for the first time this decade.

II. Method of Collection

Test Sites

The 2018 End-to-End Census Test will take place in three sites within the continental United States: Pierce County, Washington; Providence County, Rhode Island; and the Bluefield-Beckley-Oak Hill, West Virginia area. These locations offer particular characteristics that support the Census Bureau's testing goals, including: various types of addresses (such as city-style, rural, and location description-only); population with varying demographics (such as age, race, and language spoken at home); variety of housing types (such as single-units, multi-units, vacant units, GQs, and mobile homes); varied levels of Internet access and usage; various time zones; and challenging environmental conditions (such as weather extremes, rough terrain).

Self-Response:

The housing units in the areas selected for inclusion in the 2018 End-to-End Census Test will be contacted by mail and invited to complete their questionnaire via the Internet. Optimizing Self-Response contact methods include follow-on letter and postcard reminders. The Census Bureau will also test strategies for delivering paper questionnaires to households that do not or cannot respond online, as measured by low Internet connectivity or low Internet usage rates.

The Census Bureau will continue to test Non-ID Processing methodology as another strategy for Optimizing Self-Response. A User ID that links to a unique housing unit is on many of the mailed materials, but respondents can also submit a response without using the ID, particularly on the Internet or telephone. Non-ID Processing refers to address matching and geocoding for census responses that lack this preassigned census ID. This processing allows such responses to be linked up with the associated census enumeration data and can occur through automated or clerical procedures. Additionally, the 2018 End-to-End Census Test will allow the Census Bureau to continue to develop the capability to conduct real-time Non-ID Processing, where a respondent is prompted interactively (while they are still online filling out the form) for additional address and location information if the provided address cannot be matched through automation to an address with a User ID.

This test will allow the Census Bureau to understand better the requirements related to scalability of planned systems and to determine metrics for each of the Non-ID Processing steps. If the address match is not resolved during the initial automated or real-time processing, Census Bureau staff will attempt manually to match or geocode the address. It is estimated that about two percent of the overall non-ID respondents will be contacted via telephone as part of the manual matching process. Non-ID Processing also includes an office-based address verification (OBAV) component. OBAV uses available geographic reference materials to verify the existence and location of an address. OBAV is performed in an effort to avoid the more costly fieldwork. However, any address that is worked in OBAV but cannot be verified in OBAV will be sent to Field Verification (discussed in more detail below as a suboperation of NRFU).

Additionally, with the Re-collect component, a sample of self-response cases are selected for re-contact, which may occur through centralized phone contract or in-field enumeration. Re-collect is intended to validate the information from a respondent, confirming the existence of the address and the people enumerated at that address. Re-collect is also one aspect of fraud detection.

Content

Decades of research on different race/ethnicity question designs have shown that individual identities can be impacted by societal changes, attitudes, and perceptions. The 2018 End-to-End Census Test design can help us understand whether respondent reporting of racial/ethnic identities is impacted by the types of data that the Census Bureau is collecting (e.g., detailed race/ethnic responses and new categories), as well as whether or not respondent privacy concerns and expectations for data protection are addressed and the process is trusted by the general public.

It will be crucial for the Census Bureau to ensure that critical operations are fully prepared to go into production for the 2020 Census using the combined question, if it is determined that the combined race/ethnicity question format may be used for the 2020 Census. The Census Bureau plans to deploy the combined race/ethnicity question version (that includes a Middle Eastern or North African category) during the 2018 End-to-End Census Test to further examine:

• Item nonresponse to the combined race and ethnicity question (with detailed checkboxes, with respect to the reporting of major race/ethnic categories (e.g., White, Black, Asian, etc.) that is similar to the question the Census Bureau used in the 2015 National Content Test and is based on results from the 2010 Census Race and Hispanic Origin Alternative Questionnaire Experiment (Compton, et al., 2012).

Research has found that, over time, there have been a growing number of people who do not identify with any of the race categories, and this means that an increasing number of respondents have been classified as “Some Other Race.” The combined question format with detailed checkboxes attempts to help improve the accuracy of these data.

• Levels of overall race/ethnicity reporting (e.g., White, Hispanic, Black, etc.), as well as detailed reporting levels for these groups (e.g., German, Mexican, Jamaican, etc.).

• Levels of overall race/ethnicity reporting within the new category Middle Eastern or North African (MENA), as well as levels of detailed MENA reporting for respondents of Middle Eastern and North African heritage.

• Match rates between individual racial/ethnic responses in the 2018 End-to-End Census Test and responses in previous census records (e.g., 2010 Census Hispanic origin/race data; ACS ancestry, race, Hispanic origin data). This exploration aims to focus on the comparison of race/ethnicity reporting in different social environments to understand what people have reported in the past compared to what they are reporting in the present. A growing number of people find the current race and ethnicity categories confusing.

The 2018 End-to-End Census Test will be an important opportunity to experiment with different imputation procedures to ascertain which approach yields the best overall imputation results for missing data with a combined race/ethnicity question. The 2018 End-to-End Census Test will enable researchers to ascertain which records to utilize (e.g., Ancestry, Hispanic origin, Race), and in what hierarchy they should be used for imputation. With the expanded language options for the 2018 End-to-End Census Test, response data from detailed write-in fields (such as those on the combined race/ethnicity question) will also need to be output, processed, coded, edited, and tabulated, as well as translated if provided in non-English languages.

Additionally, data products and dissemination is a critical objective of the 2018 End-to-End Census Test. The question format used in data collection and processing is also the source of the redistricting tabulation, and the Census Bureau must be prepared to meet the needs of the states as well as 2020 Census data users, if it is determined that the combined race/ethnicity question format will be used for the 2020 Census. The Census Bureau believes that the results of the 2018 End-to-End Census Test will help inform our growing body of knowledge regarding the combined race/ethnicity question and the collection of major group responses and detailed race/ethnicity responses.

As previously stated, the Census Bureau recognizes that OMB is continuing to lead the discussion among federal agencies and other stakeholders on race/ethnicity from the perspective of data collection and dissemination guidance and standards, and that the final determination has not been made on the format of the race/ethnicity question for the 2020 Census. In the event that the 2020 Census does not proceed with the combined race/ethnicity question, the Census Bureau is prepared to make necessary adjustments to deploy the separate Race and Hispanic Origin questions by consulting the various versions of the separate Race and Hispanic Origin questions that were tested during the 2015 National Content Test. The Census Bureau will properly configure all downstream operations—such as response processing and data tabulation, imputation, analysis, and data dissemination—to ensure a successful deployment of the race/ethnicity question(s) regardless of the question format.

Language Services

Individuals of Limited English Proficiency (LEP) require language assistance in order to complete their census questionnaires. The Census Bureau has identified the largest LEP populations in the United States using American Community Survey data and has established a program for providing non-English materials for census tests and the decennial census. For the 2018 End-to-End Census Test, Internet self-response and telephone assistance will be available in English, Spanish, Chinese, Vietnamese, Korean, Russian, Arabic, and Tagalog. Paper questionnaires, mailing materials, field data collection instruments and field data collection materials will be available in English and Spanish.

Nonresponse Followup (NRFU)

For all housing unit addresses included in the test universe, if no response is received by a specified date, the address will be included in the universe for the NRFU portion of the test. In NRFU, enumerators will attempt to follow up at addresses for which no self-response was received to determine their status and to collect their data for addresses determined to be occupied.

To allow sufficient time for self-response, the NRFU operation begins in mid-May. However, some students who reside in off-campus housing units will have left the campus area by the time NRFU begins. Early NRFU is conducted starting in April in blocks near colleges and universities with a high percentage of off-campus housing to enumerate at these units while students are still in town.

The Census Bureau will conduct NRFU with mobile devices. The devices will utilize a secure Census Bureau-provided enumeration application solution for conducting the NRFU field data collection.

Nonresponse Followup Reinterview (NRFU-RI)

A sample of the cases enumerated via NRFU will be selected for reinterview (RI). This NRFU-RI operation is intended to help pinpoint possible cases of enumerator falsification. The Census Bureau will test centralized phone contacts of the NRFU-RI cases before sending them to an enumerator in the field, providing potential cost avoidance opportunities. Enumerators working NRFU-RI cases will use the same mobile devices and software as for the NRFU cases.

Field Verification (FV)

Households that self-respond to the Census without a User ID with addresses that cannot be either matched to our address frame or verified in Non-ID Processing may be sent to a Field Verification operation, performed by NRFU enumerators. This suboperation is designed for verification that the housing unit exists, confirmation of the census block location for the address, and if possible, collection of Global Positioning System coordinates to facilitate accurate determination of the census block.

Update Enumerate (UE)

Update Enumerate for the 2018 End-to-End Census Test will test the four planned components of the operation: Update Enumerate Production, Update Enumerate Listing Quality Control (QC), Update Enumerate Followup, and Update Enumerate Reinterview. In addition to the field operation, the Census Bureau will test mailing out an invitation package to those housing units with a mailable address to generate self-response before the operation begins. Mailable addresses will constitute only a small percentage of the addresses in these areas. If a household self-responds, the UE fieldworker (enumerator) will not need to enumerate that house while listing the geographic area. This is a cost savings to Update Enumerate since the enumerator will not have to spend time collecting these data.

Update Enumerate (UE) Production

Enumerators will visit specific geographic areas to identify every place where people could live or stay, comparing what they see on the ground to the existing census address list. The enumerator will update the address list, either verify or correct the address and location information, and classify each living quarter (LQ) as a housing unit (HU) or group quarter (GQ). If the LQ is classified as a GQ, it will be designated for enumeration within the GQ operations.

Enumerators will attempt to conduct an interview for each housing unit that has not yet self-responded. If someone answers the door, the enumerator will provide a Confidentiality Notice and ask questions to verify or update the address. The enumerator will then ask if there are any additional LQs in the structure or on the property. If there are additional LQs, the enumerators will collect/update that information. The enumerator will then interview the respondent for the household using the questionnaire on the mobile device.

If no one is home at a housing unit that has not self-responded, the enumerator will leave a Notice of Visit inviting a respondent for each household to go online with a User ID to complete the 2018 End-to-End Census Test. The Notice of Visit will also include the phone number for Census Questionnaire Assistance (CQA) if the respondent has any questions or would prefer to respond to the survey on the telephone. In the 2018 End-to-End Census Test, a paper questionnaire rather than a Notice of Visit will be left with a random set of addresses in order to test the impact on self-response rates. This operation has never been tested for the census before, and this data will help determine the best strategies to use in the 2020 Census.

Update Enumerate Listing QC

A sample of addresses listed via UE production will be selected for UE Listing QC. The intention of this operation is to help us pinpoint possible cases of enumerator falsification or error in address listing. UE Listing QC will use the Census Bureau's listing software on mobile devices to recollect listing data to be used for a comparison.

Update Enumerate Followup

The UE operation will have a UE Followup component for those households that were not enumerated on the first visit and have not yet self-responded. UE enumerators will conduct the operation using the NRFU enumeration application on a Census Bureau provided mobile device.

Update Enumerate Reinterview (UE RI)

A sample of cases enumerated via UE production or UE Followup will be selected for reinterview. The intention of this operation is to help us pinpoint possible cases of enumerator falsification of enumeration data. The Census Bureau will test centralized phone contacts of the UE RI cases before sending them to an enumerator in the field, providing potential cost avoidance opportunities. Enumerators working UE RI cases will use the same mobile devices and software as for the UE and NRFU cases.

Group Quarters Advance Contact

The GQ Advance Contact operation will contact Group Quarters prior to enumeration. In an in-office Advance Contact, GQs will be contacted to verify information such as: Preferred modes of enumeration, expected population on Census Day, and whether there are available electronic response data records the Census Bureau could use for the enumeration. Census Bureau staff at local Census offices will follow-up with GQs by phone, email, and in-person to obtain the necessary pre-enumeration information.

Group Quarters Service-Based Enumeration (SBE)

Enumerators will conduct SBE at selected shelters, soup kitchens, and nonsheltered outdoor locations, providing an opportunity to test new response collection procedures on a larger scale than has been tested so far this decade.

Group Quarters Enumeration (GQE)

GQE will involve multiple modes of enumeration. During the 2018 End-to-End Census Test, electronic response for GQs will be tested on a broad scale to determine if there are gains in efficiency through self-response. Use of the automated enumeration device is an additional technology to be tested in GQE. For GQs that request paper-based enumeration, enumerators will perform drop off and pickup of paper forms, which are completed by self-enumeration.

Group Quarters QC

A sample of cases that have been enumerated via GQE will be selected for reinterview. This operation is intended to help us pinpoint possible cases of enumerator falsification.

Coverage Improvement

Coverage Improvement is conducted to resolve potential erroneous enumerations and omissions from the initial self-response data collection and from all field enumeration data collections. Coverage questions are included in both the self-response and NRFU instruments to aid in the identification of coverage follow-up cases. In-office follow-up includes evaluating usual-home-elsewhere address data from GQ enumerations, and assessing the potential person duplication, as identified through person matching on collected data. For cases where in-office processes do not yield a resolution, field and/or telephone follow-up with the respondent will occur.

Response Processing and Data Tabulation

With the addition of expanded language options, response data from detailed write-in fields, such as those on the combined race/ethnicity question, will need to be translated, output, processed, coded, edited, and tabulated. In addition, a prototype of the Redistricting Data Program output will be delivered. Ensuring these interfaces meet the requirements for data tabulation will be a crucial step in preparing to tabulate the test data.

The design of this data product and its dissemination is a critical final objective of the 2018 End-to-End Census Test, as the Census Bureau must be prepared to meet the needs of various stakeholders for 2020 Census data.

III. Data

OMB Control Number: 0607-XXXX.

Form Number(s): Paper and electronic questionnaires; numbers to be determined.

Type of Review: Regular submission.

Affected Public: Households/Individuals.

Estimated Number of Respondents:

Test Sites—Pierce County, Washington; Providence County, Rhode Island; and the Bluefield-Beckley-Oak Hill, West Virginia Area
Operation or category | Estimated number of respondents | Estimated time per response (minutes) | Total burden hours
Geographic Area Focused on Self-Response:
Internet/Telephone/Paper | 337,000 | 10 | 56,167
Nonresponse Followup | 323,000 | 10 | 53,833
Nonresponse Followup Reinterview | 30,685 | 10 | 5,114
Self-Response Subtotal | 690,685 |  | 115,114
Geographic Area Focused on Update Enumerate:
Update Enumerate Production | 96,000 | 12 | 19,200
Update Enumerate Listing QC | 9,600 | 5 | 800
Update Enumerate Followup | 48,000 | 10 | 8,000
Update Enumerate Reinterview | 9,600 | 10 | 1,600
Update Enumerate Subtotal | 163,200 |  | 29,600
Group Quarters:
GQ Advance Contact (facility) | 1,200 | 10 | 200
GQ SBE—facility contact | 100 | 10 | 17
GQ SBE—person contact | 4,000 | 10 | 667
GQ Enumeration—facility contact | 1,100 | 10 | 183
GQ Enumeration—person contact | 55,000 | 10 | 9,167
Group Quarters QC | 110 | 5 | 9
Group Quarters Subtotal | 61,510 |  | 10,243
Non-ID Processing Phone Followup | 337 | 5 | 28
Re-collect | 16,000 | 10 | 2,667
Field Verification | 421 | 2 | 14
Coverage Improvement | 15,420 | 10 | 2,570
Totals | 947,573 |  | 160,236

Self-Response by Internet/Telephone/Paper: 337,000 respondents.

Nonresponse Followup: 323,000 respondents.

Nonresponse Followup Reinterview: 30,685 respondents.

Update Enumerate Production: 96,000 respondents.

Update Enumerate Listing QC: 9,600 respondents.

Update Enumerate Followup: 48,000 respondents.

Update Enumerate Reinterview: 9,600 respondents.

Group Quarters Advance Contact (facility): 1,200 respondents.

Group Quarters Service-Based Enumeration—facility contact: 100 respondents.

Group Quarters Service-Based Enumeration—person contact: 4,000 respondents.

Group Quarters Enumeration—facility contact: 1,100 respondents.

Group Quarters Enumeration—person contact: 55,000 respondents.

Group Quarters QC: 110 respondents.

Non-ID Processing Phone Followup: 337 respondents.

Re-collect: 16,000 respondents.

Field Verification: 421 respondents.

Coverage Improvement: 15,420 respondents.

Total: 947,573 Contacts.

Estimated Time per Response:

Self-Response by Internet/Telephone/Paper: 10 minutes per response.

Nonresponse Followup: 10 minutes per response.

Nonresponse Followup Reinterview: 10 minutes per response.

Update Enumerate Production: 12 minutes per response.

Update Enumerate Listing QC: 5 minutes per response.

Update Enumerate Followup: 10 minutes per response.

Update Enumerate Reinterview: 10 minutes per response.

Group Quarters Advance Contact: 10 minutes per response.

Group Quarters Service-based Enumeration: 10 minutes per response.

Group Quarters Enumeration: 10 minutes per response.

Group Quarters QC: 5 minutes per response.

Non-ID Processing Phone Followup: 5 minutes per response.

Re-collect: 10 minutes per response.

Field Verification: 2 minutes per response.

Coverage Improvement: 10 minutes per response.

Estimated Total Annual Burden Hours: 160,236 hours.

Estimated Total Annual Cost to Public: There are no costs to respondents other than their time to participate in this data collection.

Respondent's Obligation: Mandatory.

Legal Authority: Title 13 U.S.C. Sections 141, 191 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
PRA Departmental Lead, Office of the Chief Information Officer.

[FR Doc. 2017-06171 Filed 3-28-17; 8:45 am]

BILLING CODE 3510-07-P